DEPARTMENT OF HEALTH AND HUMAN SERVICES

National Institutes of Health

Eunice Kennedy Shriver National Institute of Child Health and Human Development; Notice of Meeting

Pursuant to section 10(a) of the Federal Advisory Committee Act, as amended (5 U.S.C. App.), notice is hereby given of a meeting of the National Advisory Board on Medical Rehabilitation Research.

The meeting will be held as a hybrid (in person and virtual) meeting and is open to the public. Individuals who plan to attend as well as those who need special assistance, such as sign language interpretation or other reasonable accommodations, should notify the Contact Person listed as below in advance of the meeting. The meeting will be videocast and can be accessed from the NIH Videocasting website (http://videocast.nih.gov).

Name of Committee: National Advisory Board on Medical Rehabilitation Research.

Date: May 1-2, 2023.

Time: May 1, 2023, 9:00 a.m. to 5:00 p.m.

Agenda: NCMRR Director's report; NCMRR Portfolio Analysis; Report out on NCMRR Conferences; Research Talk: Therapeutic Strategies to Maximize Development in Children with Neuromotor Disorders; Research Talk: Neural and Biomechanical Contributors to Posture and Movement; Training and Career Development Breakout Groups.

Place: Eunice Kennedy Shriver National Institute of Child Health and Human Development, National Institutes of Health, 6710B Rockledge Drive, MPR, Bethesda, MD 20892-7510.

Time: May 2, 2023, 9:00 a.m. to 12:30 p.m.

Agenda: NICHD Director's report; Report out from Breakout Groups and Training Work Group formation; Science Talk: Knowledge Translation; Concept Clearance; Comments from Retiring Board Members; Planning for Next Board Meeting in December 2023.

Place: Eunice Kennedy Shriver National Institute of Child Health and Human Development, National Institutes of Health, 6710B Rockledge Drive, MPR, Bethesda, MD 20892-7510.

Contact Person: Ralph M. Nitkin, Ph.D., Deputy, National Center for Medical Rehabilitation Research and Director, Biological Sciences and Career Development Program, Eunice Kennedy Shriver National Institute of Child Health and Human Development, National Institutes of Health, 6710B Rockledge Drive, Room 2116, Bethesda, MD 20892-7510, (301) 402-4206, nitkinr@mail.nih.gov.

In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

Additional Health and Safety Guidance: Before attending a meeting at an NIH facility, it is important that visitors review the NIH COVID-19 Safety Plan at https://ors.od.nih.gov/sr/dohs/safety/NIH-covid-19-safety-plan/Pages/default.aspx for information about requirements and procedures for entering NIH facilities, especially when COVID-19 community levels are medium or high. In addition, the Safer Federal Workforce website has FAQs for visitors at https://www.saferfederalworkforce.gov/faq/visitors/. Please note that if an individual has a COVID-19 diagnosis within 10 days of the meeting, that person must attend virtually. (For more information please read NIH's Requirements for Persons after Exposure at https://ors.od.nih.gov/sr/dohs/safety/NIH-covid-19-safety-plan/COVID-assessment-testing/Pages/persons-after-exposure.aspx and What Happens When Someone Tests Positive at https://ors.od.nih.gov/sr/dohs/safety/NIH-covid-19-safety-plan/COVID-assessment-testing/Pages/test-positive.aspx.) Anyone from the public can attend the open portion of the meeting virtually via the NIH Videocasting website (http://videocast.nih.gov). Please continue checking these websites, in addition to the committee website listed below, for the most up to date guidance as the meeting date approaches.

Information is also available on the Institute's/Center's home page: https://www.nichd.nih.gov/about/advisory/nabmrr, where an agenda and any additional information for the meeting will be posted when available.

(Catalogue of Federal Domestic Assistance Program Nos. 93.864, Population Research; 93.865, Research for Mothers and Children; 93.929, Center for Medical Rehabilitation Research; 93.209, Contraception and Infertility Loan Repayment Program, National Institutes of Health, HHS)

Dated: March 21, 2023.
David W. Freeman,
Program Analyst, Office of Federal Advisory Committee Policy.

[FR Doc. 2023-06155 Filed 3-23-23; 8:45 am]

BILLING CODE 4140-01-P